ENVIRONMENTAL PROTECTION AGENCY

[EPA-HQ-OPP-2008-0850; FRL-9380-7]

Chlorpyrifos Registration Review; Preliminary Volatilization Assessment; Extension of Comment Period

AGENCY: Environmental Protection Agency (EPA).

ACTION: Notice; extension of comment period.

SUMMARY: EPA issued a notice in the Federal Register issue of February 6, 2013, concerning Chlorpyrifos Registration Review; Preliminary Evaluation of the Potential Risk From Volatilization. This document extends the comment period for 60 days, from March 8, 2013 to May 7, 2013.

DATES: Comments, identified by docket identification (ID) number EPA-HQ-OPP-2008-0850, must be received on or before May 7, 2013.

ADDRESSES: Follow the detailed instructions as provided under ADDRESSES in the Federal Register document of February 6, 2013.

FOR FURTHER INFORMATION CONTACT: Joel Wolf, Pesticide Re-Evaluation Division (7508P), Office of Pesticide Programs, Environmental Protection Agency, 1200 Pennsylvania Ave. NW., Washington, DC 20460-0001; telephone number: (703) 347-0228; email address: wolf.joel@epa.gov.

SUPPLEMENTARY INFORMATION: This document extends the public comment period established in the Federal Register issue of February 6, 2013 (78 FR 8522) (FRL-9376-5). In that document, EPA announced the availability for public comment of its preliminary volatilization assessment for the registration review of chlorpyrifos. EPA received requests from several commenters to extend the comment period. EPA is hereby extending the comment period, which was set to end on March 8, 2013, to May 7, 2013.

To submit comments, or access the docket, please follow the detailed instructions as provided under ADDRESSES in the February 6, 2013 Federal Register document. If you have questions, consult the person listed under FOR FURTHER INFORMATION CONTACT.

List of Subjects

Environmental protection, Chlorpyrifos, Pesticides, Pests.

Dated: February 26, 2013.
Richard P. Keigwin, Jr.,
Director, Pesticide Re-Evaluation Division, Office of Pesticide Programs.

[FR Doc. 2013-05094 Filed 3-5-13; 8:45 am]

BILLING CODE 6560-50-P